DEPARTMENT OF LABOR

Employment and Training Administration

[TA-W-50,349]

Simmons Foods; Siloam Springs, AR; Notice of Termination of Investigation

Pursuant to section 221 of the Trade Act of 1974, as amended, an investigation was initiated on December 16, 2003, in response to a worker petition filed on behalf of workers at Simmons Foods, Siloam Springs, Arkansas.

The petitioner has requested that the petition be withdrawn. Consequently, the investigation has been terminated.

Signed in Washington, DC this 14th day of January, 2003.
Richard Church,
Certifying Officer, Division of Trade Adjustment Assistance.

[FR Doc. 03-2555 Filed 2-3-03; 8:45 am]

BILLING CODE 4510-30-P